DEPARTMENT OF DEFENSE

Office of the Secretary

[Transmittal No. 21-0M]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 21-0M.

Dated: May 15, 2024.
Aaron T. Siegel,
Alternate OSD Federal Register Liaison Officer, Department of Defense.

BILLING CODE 6001-FR-P

BILLING CODE 6001-FR-C

Transmittal No. 21-0M

REPORT OF ENHANCEMENT OR UPGRADE OF SENSITIVITY OF TECHNOLOGY OR CAPABILITY (SEC. 36(B)(5)(C), AECA)

(i) Purchaser: Government of Egypt

(ii) Sec. 36(b)(1), AECA Transmittal No.: #20-81

Date: February 16, 2021

Military Department: Navy

Funding Source: Foreign Military Financing (FMF)

(iii) Description: On February 16, 2021, Congress was notified by Congressional certification transmittal number 20-81 of the possible sale, under Section 36(b)(l) of the Arms Export Control Act, of up to one hundred sixty-eight (168) RIM-116C Rolling Airframe Missiles (RAM) Block 2 tactical missiles. Also included were RAM Guided Missile Round Pack Tri-Pack shipping and storage containers; operator manuals and technical documentation; U.S. Government and contractor engineering, technical and logistics support services; and other related elements of logistical and program support. The estimated total program cost was $197 million. Major Defense Equipment (MDE) constituted $182 million of this total.

This transmittal notifies the addition of four (4) MK 49 MOD 5 RAM Guided Missile Launching Systems (GMLS) (MDE). The following non-MDE items will also be included: support equipment; sparing; U.S. Government and contractor technical assistance; and U.S. Government non-technical support. The overall MDE value will increase to $282 million and the overall total value will increase to $347 million.

(iv) Significance: This notification is being provided to report the inclusion of MDE items not previously notified. The inclusion of this MDE represents an increase in capability over what was previously notified. The Egyptian Navy will replace the RAM MK 49 MOD 3 launchers on its Ex‐Oliver Hazard Perry (OHP) Frigates with these Mod 5 launchers. This potential sale will improve Egypt's capability to meet current and future threats and provide significantly enhanced area defense capabilities over Egypt's coastal areas and approaches to the Suez Canal.

(v) Justification: This proposed sale will support the foreign policy and national security objectives of the United States by helping to improve the security of a Major Non-North Atlantic Treaty Organization Ally that continues to be an important strategic partner in the Middle East.

(vi) Sensitivity of Technology: The RAM MK 49 GMLS is the launcher for the RAM Guided Missile Weapon System (GMWS) that was approved under the original 36(b)(1) notification, Transmittal No. 20-81. The RAM GMWS is a high fire power, dual mode, fire and forget weapon system, which provides ship self-defense against anti-ship missiles. The RAM MK 49 GMLS is comprised of a 21-round launcher guide, which is capable of firing tactical or telemetry RAM missiles.

The highest level of classification of defense articles, components, and services included in this potential sale is UNCLASSIFIED.

(vii) Date Report Delivered to Congress: May 26, 2022

[FR Doc. 2024-11037 Filed 5-17-24; 8:45 am]

BILLING CODE 6001-FR-P